COMMODITY FUTURES TRADING COMMISSION

Sunshine Act Meetings

Agency Holding the Meeting: Commodity Futures Trading Commission.

Time and Date: 11 a.m., Friday March 21, 2008.

Place: 1155 21st St., NW., Washington, DC, 9th Floor Commission Conference Room.

Status: Closed.

Matters to be Considered: Surveillance Matters.

For Further Information Contact: Sauntia S. Warfield, 202-418-5084.

David A. Stawick,
Secretary of the Commission.

[FR Doc. 08-847 Filed 2-21-08; 11:53 am]

BILLING CODE 6351-01-M